DEPARTMENT OF THE INTERIOR

Bureau of Land Management

[LLWO350000.L14400000.PN0000]

Renewal of Approved Information Collection

AGENCY: Bureau of Land Management, Interior.

ACTION: 30-day notice and request for comments.

SUMMARY: The Bureau of Land Management (BLM) has submitted an information collection request to the Office of Management and Budget (OMB) to continue the collection of information from owners of surface estates who apply for title to underlying Federally-owned mineral estates. The Office of Management and Budget (OMB) previously approved this information collection activity, and assigned it control number 1004-0153.

DATES: The OMB is required to respond to this information collection request within 60 days but may respond after 30 days. For maximum consideration, written comments should be received on or before October 26, 2015.

ADDRESSES: Please submit comments directly to the Desk Officer for the Department of the Interior (OMB #1004-0153), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0153” regardless of the form of your comments.

FOR FURTHER INFORMATION CONTACT: Flora Bell, at 202-912-7347. Persons who use a telecommunication device for the deaf may call the Federal Information Relay Service at 1-800-877-8339, to leave a message for Ms. Bell. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on February 11, 2015 (80 FR 7630), and the comment period ended April 13, 2015. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0153 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Conveyance of Federally-Owned Mineral Interests (43 CFR part 2720).

Form: None.

OMB Control Number: 1004-0153.

Abstract: The respondents in this information collection are owners of surface estates who apply for title to underlying Federally-owned mineral estates. The BLM needs to conduct the information collection to determine if the applicants are eligible to receive title to the Federally-owned minerals lying beneath their lands. When certain specific conditions have been met, the United States will convey legal title to the Federally-owned minerals to the owner of the surface estate.

Frequency: On occasion.

Description of Respondents: Owners of surface estates who apply for underlying Federally-owned mineral estates.

Estimated Number of Responses: 24 annually.

Estimated Reporting and Recordkeeping “Hour” Burden: 240 hours annually.

Estimated Reporting and Recordkeeping “Non-Hour Cost” Burden: $1,200 annually.

The estimated burdens are itemized in the following table:

A. Type of response | B. Number of responses | C. Hours per response | D. Total hours (column B × column C)
Conveyance of Federally-Owned Mineral Interests—Businesses | 11 | 10 | 110
Conveyance of Federally-Owned Mineral Interests—Individuals | 10 | 10 | 100
Conveyance of Federally-Owned Mineral Interests—State/Local/Tribal Governments | 3 | 10 | 30
Totals | 24 |  | 240

Jean Sonneman,
Bureau of Land Management, Information Collection Clearance Officer.

[FR Doc. 2015-24309 Filed 9-23-15; 8:45 am]

BILLING CODE 4310-84-P